DEPARTMENT OF AGRICULTURE

Farm Service Agency

Information Collection; Transfer of Farm Records Between Counties

AGENCY: Farm Service Agency, USDA.

ACTION: Notice; request for comments.

SUMMARY: In accordance with the Paperwork Reduction Act of 1995, the Farm Service Agency (FSA) is seeking comments from interested individuals and organizations on an extension with a revision of a currently approved information collection associated with transferring of farm records from one administrative county office to another.

DATES: We will consider comments that we receive by May 16, 2011.

ADDRESSES: We invite you to submit comments on this Notice. In your comment, include volume, date and page number of this issue of the Federal Register. You may submit comments by any of the following methods:

E-mail: Send comments to: rick.blackwood@wdc.usda.gov.

Fax: 202-720-4941.

Mail: Rick Blackwood, Agricultural Program Specialist, Common Provisions Branch, 1400 Independence Avenue, SW., STOP 0512, Washington, DC 20250-0512.

Comments also should be sent to the Desk Officer for Agriculture, Office of Information and Regulatory Affairs, Office of Management and Budget, Washington, DC 20503.

FOR FURTHER INFORMATION CONTACT: Rick Blackwood, Agricultural Program Specialist, (202) 720-5422.

SUPPLEMENTARY INFORMATION:

Title: Transfer of Farm Records Between Counties.

OMB Control Number: 0560-0253.

Type of Request: Extension with a revision.

Abstract: Farm owners or operators may elect to transfer farm records between FSA county offices when the principal dwelling of the farm operator has changed, a change has occurred in the operation of the land, or there has been a change that would cause the receiving administrative county office to be more accessible such the construction of a new highway, relocation of the county office building site, etc. The transfer of farm records is also required when an FSA county office closes. The FSA County Committees from both the transferring and receiving counties must approve or disapprove all proposed farm record transfers. In some cases, the State Committee and/or the National Office must also approve or disapprove proposed farm record transfers.

Estimated Average Time to Respond: Public reporting burden for collection of this information is estimated to average 10 minutes per response. The average travel time, which is included in the total annual burden, is estimated to be 1 hour per respondent.

Type of Respondents: Owners and operators.

Estimate of Burden: Average 10 minutes per response.

Estimated Number of Respondents: 23,000.

Estimated Number of Responses per Respondent: 1.

Estimated Annual Number of Responses: 23,000.

Estimated Total Annual Burden on Respondents: 26,833 hours.

We are requesting comments on all aspects of this information and to help us to:

(1) Evaluate whether the proposed collection of information is necessary for the proper performance of the functions of the agency, including whether the information will have practical utility;

(2) Evaluate the accuracy of the agency's estimate of the burden of the proposed collection of information, including the validity of the methodology and assumptions used;

(3) Enhance the quality, utility and clarity of the information from those who are to respond, including the use of appropriate automated, electronic, mechanical, or other technological collection techniques or other forms of information technology.

All comments received in response to this notice, including names and addresses when provided, will be a matter of public record. Comments will be summarized and included in the submission for Office of Management and Budget Approval.

Signed at Washington, DC, on March 9, 2011.
Signed by Val Dolcini,
Administrator, Farm Service Agency.

[FR Doc. 2011-6149 Filed 3-15-11; 8:45 am]

BILLING CODE 3410-05-P